DEPARTMENT OF THE INTERIOR

Bureau of Land Management

[NM-910-00-1020-PB]

New Mexico Resource Advisory Council Meeting

AGENCY: Bureau of Land Management, Interior.

ACTION: Notice of council meeting.

SUMMARY: In accordance with the Federal Land Policy and Management Act and the Federal Advisory Committee Act of 1972 (FACA), 5 U.S.C. appendix 1, The Department of the Interior, Bureau of Land Management (BLM), announces a meeting of the New Mexico Resource Advisory Council (RAC). The meeting will be held on August 23-25, 2000, at the Best Western Inn and Suites, 3009 West Highway 66, Gallup, NM 87301.

There will be an optional all day a field trip on Wednesday, August 23, 2000. Planned for the first stop will be the Pittsburgh and Midway Mine to view the mining process and reclamation/revegetation of the mine area. The tour will proceed to the El Malpais National Conservation Area for an overview of the geology of the area, and a final stop at the bat caves. The optional tour will start at the Best Western Inn and Suites in Gallup, NM, at 8:30 a.m. and return to Gallup by 9 p.m. Transportation will be provided for RAC members. The meeting on Thursday, August 24, 2000, starts at 8:00 a.m. and will end about 5 p.m. The three established RAC Subcommittees may have late afternoon or evening meetings on this day. The exact time and location of the Subcommittee meetings will be established by the Chairperson of each Subcommittee earlier in the day during the RAC meeting.

On Friday, August 25, 2000, the meeting starts at 8 a.m. and will end about 3 p.m. The ending time of 3 p.m. may be changed depending on the work remaining for the RAC. The draft agenda for the RAC meeting includes an agreement on the meeting agenda, any RAC comments on the draft minutes of the last RAC meeting on June 14 through 16, 2000, in Taos, NM, a check in from the RAC members, and the following planned presentations that also include discussions; a progress report on House Memorial 15, and a Standards and Guidelines update. The time from 10 a.m. until 12 noon will be taken up with a review of the Off Highway Vehicle issue. There will be a discussion on a handout from the previous meeting and review of the outcome of three Listening Meetings on the topic being held throughout the State during July.

Starting at 1 p.m. on August 24, 2000, there will be a 15 minute Public Comment Period for members of the public who are not able to be present for the regular Public Comment Period on Friday, August 25th, to address the RAC. Following will be presentations on the Pittsburgh and Midway Coal Mine, which also include discussions. The main focus will be on reclamation and revegetation of the mine areas. Planned presentations included will be representatives from the Pittsburgh and Midway Mine, the Navajo Nation, the State of NM, the Bureau of Land Management, and a speaker representing an environmental group. The meeting on Thursday will end about 5 p.m. The three established RAC Subcommittees may have late afternoon or evening meetings on this day. The exact time and location of the Subcommittee meetings will be established by the Chairperson of each Subcommittee earlier in the day during the RAC meeting.

The meeting on Friday, August 25th will start at 8 a.m. with a review of the agenda thus far. At 8:15 a.m., BLM State of the Field Office reports will take place, presented by the Field Office managers. The regular Public Comment Period for the Public to address the RAC is on the Friday, August 25, 2000, from 10 a.m. to 12 noon. The RAC may reduce or extend the end time of 12:00 noon depending on the number of people wishing to address the RAC. Anyone wishing to address the RAC should be present at the 10 a.m. starting time. The length of time available for each person to address the RAC will be established at the start of the public comment period and will depend on how many people there are that wish to address the RAC. At the completion of the public comments the RAC may continue discussion on its agenda items. At 1 p.m. RAC Subcommittee reports from the Urban and Open Space Subcommittee, the Roads and Trails Subcommittee, and the Oil and Gas Subcommittee, are scheduled. These reports are followed by RAC discussions and any RAC recommendations, development of draft agenda items and selection of a location for the next RAC meeting, and a RAC assessment of the current meeting.

FOR FURTHER INFORMATION CONTACT: Mary White, Nex Mexico State Office, Office of External Affairs, Bureau of Land Management, 1474 Rodeo Road, P.O. Box 27115, Santa Fe, New Mexico 87502-0115, telephone (505) 438-7404.

SUPPLEMENTARY INFORMATION: The purpose of the Resource Advisory Council is to advise the Secretary of the Interior, through the BLM, on a variety of planning and management issues associated with the management of public lands. The Council's responsibilities include providing advice on long-range planning, establishing resource management priorities and assisting the BLM to identify State and regional standards for rangeland health and guidelines for grazing management.

Dated: June 29, 2000.
M.J. Chávez,
State Director.

[FR Doc. 00-17180 Filed 7-6-00; 8:45 am]

BILLING CODE 4310-FB-M